NUCLEAR REGULATORY COMMISSION

10 CFR Chapter I

RIN 3150-AI18

Administrative Changes

AGENCY: Nuclear Regulatory Commission.

ACTION: Final rule.

SUMMARY: The Nuclear Regulatory Commission (NRC) is amending its regulations to update a telephone number for the Office of Information Services and an NRC Web site location. This document is necessary to inform the public of these changes to the NRC's regulations.

EFFECTIVE DATE: June 18, 2007.

FOR FURTHER INFORMATION CONTACT: Thomas Smith, Office of Information Services, Nuclear Regulatory Commission, Washington, DC 20555-0001, 301-415-7043, e-mail TES@nrc.gov.

SUPPLEMENTARY INFORMATION: The NRC is revising its regulations to update a telephone number for the Office of Information Services and an NRC Web site location. The Web site contains detailed guidance on making electronic submissions to the agency. This guidance discusses, among other topics, the formats the NRC can accept, the use of electronic signatures, and the treatment of nonpublic information.

Environmental Impact: Categorical Exclusion

The NRC has determined that this final rule is the type of action described in categorical exclusion 10 CFR 51.22(c)(1) and (2). Therefore, neither an environmental impact statement nor an environmental assessment has been prepared for this final rule.

Paperwork Reduction Act Statement

This final rule does not contain a new or amended information collection requirement subject to the Paperwork Reduction Act of 1995 (44 U.S.C. 3501 et seq.).

Public Protection Notification

If a means used to impose an information collection does not display a currently valid OMB control number, the NRC may not conduct or sponsor, and a person is not required to respond to, the information collection.

Regulatory Analysis

A regulatory analysis has not been prepared for this final rule. This final rule makes only minor administrative changes to the regulations that reference a telephone number and an NRC Web site, and imposes no burden on licensees. Therefore, a regulatory analysis is not necessary.

Backfit Analysis

The NRC has determined that these amendments do not involve any provisions which would impose backfits as defined in 10 CFR 50.109(a)(1); therefore a backfit analysis is not necessary.

Congressional Review Act

In accordance with the Congressional Review Act, the NRC has determined that this action is not a major rule and has verified this determination with the Office of Information and Regulatory Affairs of OMB.

Because these amendments deal solely with agency organization and procedure, and represent minor administrative matters which do not raise any significant policy or regulatory issue, the NRC has determined that notice and comment is not necessary under the Administrative Procedure Act (APA), 5 U.S.C. 553(b)(3)(A), and that in any event there is good cause for dispensing with such notice and comment under 5 U.S.C. 553(d)(3)(B). In addition, the NRC has determined that good cause exists for making the rule immediately effective upon publication, as provided for under 5 U.S.C. 553(d)(3), because the amendments represent minor administrative matters which do not raise any significant policy or regulatory issue and do not impose any significant regulatory requirement upon any regulated entity or person.

For the reasons set out in the preamble and under the authority of the Atomic Energy Act of 1954, as amended, the Energy Reorganization Act of 1974, as amended, and 5 U.S.C. 552 and 553, 42 U.S.C. 2201, as amended, and 42 U.S.C. 5841, the NRC is adopting the following amendments to 10 CFR Chapter I to read as follows:

10 CFR Chapter I [Amended]

1. In Chapter I revise all references to “(301) 415-6030” to read “(301) 415-0439”.

2. In Chapter I revise all references to “http://www.nrc.gov/site-help/eie.html” to read “http://www.nrc.gov/site-help/ e-submittals.html”.

Dated at Rockville, Maryland, this 4th day of June, 2007.
For the Nuclear Regulatory Commission.
Luis A. Reyes,
Executive Director for Operations.

[FR Doc. E7-11708 Filed 6-15-07; 8:45 am]

BILLING CODE 7590-01-P